FEDERAL COMMUNICATIONS COMMISSION

47 CFR Part 97

[WT Docket No. 04-140, WT Docket No. 05-235; FCC 06-178]

Amateur Service Rules

AGENCY: Federal Communications Commission.

ACTION: Final rule.

SUMMARY: In this document, the Commission amends its Amateur Radio Service rules to remove the requirement that an individual must pass a Morse code telegraphy examination to qualify for a General Class or an Amateur Extra Class amateur radio service operator license. The Commission also revises the frequency segment of the 80 meter amateur service High Frequency (HF) band on which amateur stations are authorized to be automatically controlled when transmitting RTTY and data emission types, and it make other conforming amendments to the amateur service rules.

DATES: Effective February 23, 2007.

FOR FURTHER INFORMATION CONTACT: William T. Cross, Wireless Telecommunications Bureau at (202) 418-0620, or TTY (202) 418-7233.

SUPPLEMENTARY INFORMATION: This is a summary of the Commission's Report and Order and Order on Reconsideration, in WT Docket Nos. 04-140 and 05-235; FCC 06-178, adopted December 15, 2006 and released December 19, 2006. The complete text of this document is available for inspection and copying during normal business hours in the FCC's Reference Information Center, 445 12th Street, SW., Room CY-A257, Washington, DC. Alternative formats (Braille, large print, electronic files, audio format) are available for people with disabilities by sending an e-mail to FCC504@fcc.gov or, calling the Consumer and Government Affairs Bureau at (202) 418-0530 (voice), (202) 418-0432 (TTY). The Order also may be downloaded from the Commission's Web site at http://www.fcc.gov/.

1. In this Report and Order and Order on Reconsideration the Commission adopts changes to its part 97 rules to revise the examination requirements for obtaining a General Class or Amateur Extra Class amateur radio operator license, revises the operating privileges for Technician Class licensees to include the operating privileges that are authorized to Novice Class licensees, and authorizes automatically controlled digital stations to operate in the 3585-3600 kHz frequency segment. The overall effect of this action is to further the public interest by encouraging individuals who are interested in communications technology, or who are able to contribute to the advancement of the radio art, to become amateur radio operators; and eliminating a requirement that is now unnecessary and may discourage amateur service licensees from advancing their skills in the communications and technical phases of amateur radio. The changes adopted in this Report and Order and Order on Reconsideration were proposed in the Notice of Proposed Rulemaking at 70 FR 51705, August 31, 2005. Over 3800 comments on the proposed rule changes were received and changes to the proposed rules based on these comments are included in this Report and Order and Order on Reconsideration.

2. Specifically, the Commission (1) removes the five wpm telegraphy examination from the examination requirements for the General Class and Amateur Extra Class operator licenses; (2) revises the operating privileges for Technician Class licensees to include the High Frequency operating privileges that are authorized to Novice Class and Technician Plus Class licensees; and (3) authorizes automatically controlled digital stations to transmit in the 3585-3600 kHz segment of the 80 m band. The effect of these revisions are to eliminate unnecessary requirements from the amateur service license examination system and to provide licensees with greater flexibility in the utilization of amateur service frequencies.

I. Procedural Matters

A. Paperwork Reduction Act Analysis

3. This document does not contain any new or modified information collection requirements subject to the Paperwork Reduction Act of 1995 (PRA), Public Law 104-13. Therefore, it does not contain any new or modified “information collection burden for small business concerns with fewer than 25 employees,” pursuant to the Small Business Paperwork Relief Act of 2002, Public Law 107-198, see 44 U.S.C. 3506(c)(4).

B. Report to Congress

4. The Commission will send a copy of the Report and Order and Order on Reconsideration, including this Final Regulatory Flexibility Certification, in a report to be sent to Congress and the Congressional Budget Office pursuant to the Congressional Review Act. In addition, the Commission will send a copy of the Report and Order and Order on Reconsideration, including the Final Regulatory Flexibility Certification, to the Chief Counsel for Advocacy of the SBA and the Final Regulatory Flexibility Certification will also be published in the Federal Register.

C. Final Regulatory Flexibility Certification

5. In this Report and Order and Order on Reconsideration, we amend the rules that specify how an individual who has qualified for an amateur service operator license can use an amateur radio station consistent with the basis and furthering the purpose of the amateur service. The amended rules apply exclusively to individuals who are licensees in the amateur radio service. Given the definition of a “small entity,” none of these individuals are small entities as the term is used in the RFA. Therefore, we certify that the rules reflected in this Report and Order and Order on Reconsideration will not have a significant economic impact on a substantial number of small entities.

D. Ordering Clauses

6. Pursuant to sections 4(i), 303(f), 303(r), and 332 of the Communications Act of 1934, as amended, 47 U.S.C. 154 (i), 303(f), 303(r) and 332, the rules are amended as specified below.

List of Subjects in 47 CFR Part 97

Radio.

Federal Communications Commission.
Marlene H. Dortch,
Secretary.

Rule Changes

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.3 is amended by revising paragraph (a)(12) to read as follows:

§ 97.3 Definitions.

(a) * * *

(12) CEPT radio amateur license. A license issued by a country belonging to the European Conference of Postal and Telecommunications Administrations (CEPT) that has adopted Recommendation T/R 61-01 (Nice 1985, Paris 1992, Nicosia 2003).

* * * * *

3. Section 97.221 is amended by revising paragraph (b) to read as follows:

§ 97.221 Automatically controlled digital station.

* * * * *

(b) A station may be automatically controlled while transmitting a RTTY or data emission on the 6 m or shorter wavelength bands, and on the 28.120-28.189 MHz, 24.925-24.930 MHz, 21.090-21.100 MHz, 18.105-18.110 MHz, 14.0950-14.0995 MHz, 14.1005-14.112 MHz, 10.140-10.150 MHz, 7.100-7.105 MHz, or 3.585-3.600 MHz segments.

* * * * *

4. Section 97.301 is amended by revising the introductory text of paragraphs (a), (b) and (e) to read as follows:

§ 97.301 Authorized frequency bands.

* * * * *

(a) For a station having a control operator who has been granted a Technician, Technician Plus, General, Advanced, or Amateur Extra Class operator license, who holds a CEPT radio amateur license, or who holds any class of IARP:

* * * * *

(b) For a station having a control operator who has been granted an Amateur Extra Class operator license, who holds a CEPT radio amateur license, or who holds a Class 1 IARP license:

* * * * *

(e) For a station having a control operator who has been granted an operator license of Novice Class, Technician Class, or Technician Plus Class:

* * * * *

5. Section 97.501 is amended by revising paragraph (a) and (b) to read as follows:

§ 97.501 Qualifying for an amateur operator license.

* * * * *

(a) Amateur Extra Class operator: Elements 2, 3, and 4;

(b) General Class operator: Elements 2 and 3;

* * * * *

§ 97.503 [Amended]

6. Section 97.503 is amended by removing paragraph (a), redesignating paragraph (b) as an undesignated introductory paragraph, and redesignating paragraphs (b)(1) through (b)(3) as paragraphs (a) through (c).

7. Section 97.505 is amended by revising paragraphs (a)(1), (2), (3), (4), and (5) to read as set forth below, and by removing paragraphs (a)(6), (7), (8), and (9).

§ 97.505 Element credit.

(a) * * *

(1) An unexpired (or expired but within the grace period for renewal) FCC-granted Advanced Class operator license grant: Elements 2 and 3.

(2) An unexpired (or expired but within the grace period for renewal) FCC-granted General Class operator license grant: Elements 2 and 3.

(3) An unexpired (or expired but within the grace period for renewal) FCC-granted Technician or Technician Plus Class operator (including a Technician Class operator license granted before February 14, 1991) license grant: Element 2.

(4) An expired FCC-issued Technician Class operator license document granted before March 21, 1987; Element 3.

(5) A CSCE: Each element the CSCE indicates the examinee passed within the previous 365 days.

* * * * *

[FR Doc. E7-729 Filed 1-23-07; 8:45 am]

BILLING CODE 6712-01-P